CONSUMER PRODUCT SAFETY COMMISSION

[Docket No. CPSC-2010-0055]

Submission for OMB Review; Comment Request—Standard for the Flammability of Mattresses and Mattress Pads and Standard for the Flammability (Open Flame) of Mattress Sets

AGENCY: Consumer Product Safety Commission.

ACTION: Notice.

SUMMARY: As required by the Paperwork Reduction Act of 1995 (44 U.S.C. Chapter 35), the Consumer Product Safety Commission (CPSC or Commission) announces that the CPSC has submitted to the Office of Management and Budget (OMB) a request for extension of approval of a collection of information associated with the CPSC's Standard for the Flammability of Mattresses and Mattress Pads, 16 CFR Part 1632, and the Standard for the Flammability (Open Flame) of Mattress Sets, 16 CFR Part 1633, under OMB Control No. 3041-0014. In the Federal Register of December 6, 2013 (78 FR 73504), the CPSC published a notice to announce the agency's intention to seek extension of approval of this collection of information. CPSC received no comments in response to that notice. Therefore, by publication of this notice, the Commission announces that CPSC has submitted to the OMB a request for extension of approval of that collection of information without change.

DATES: Written comments on this request for extension of approval of information collection requirements should be submitted by April 16, 2014.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2010-0055.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC seeks to renew the following currently approved collection of information:

Title: Standard for the Flammability of Mattresses and Mattress Pads, 16 CFR Part 1632 and the Standard for the Flammability (Open Flame) of Mattress Sets, 16 CFR Part 1633.

OMB Number: 3041-0014.

Type of Review: Renewal of collection.

Frequency of Response: On occasion.

Affected Public: Manufacturers and importers of mattresses.

Estimated Number of Respondents: 671 establishments produce mattresses; approximately 571 produce conventional mattresses; and approximately 100 establishments produce nonconventional mattresses.

Estimated Time per Response: Under 16 CFR Part 1632, 671 respondents will each spend approximately 26 hours for testing and recordkeeping annually. Under 16 CFR Part 1633, 671 respondents will spend approximately 95.6 hours for testing and recordkeeping annually. (Pooling among establishments or using a prototype qualification for longer than one year may reduce this estimate.)

Total Estimated Annual Burden: 80,923 annual burden hours (671 establishments × 26 hours) + (671 establishments × 94.6 hours).

General Description of Collection: The Commission issued flammability standards for mattresses under the Standard for the Flammability of Mattresses and Mattress Pads, 16 CFR Part 1632, and the Standard for the Flammability (Open Flame) of Mattress Sets, 16 CFR Part 1633. The regulation at 16 CFR Part 1632 prescribes requirements for testing prototype designs of mattresses and mattress pads to assess ignition resistance to smoldering cigarettes. The standard requires manufacturers to maintain records concerning the mattress or mattress pad prototype, testing results, and substitute materials. The regulation at 16 CFR Part 1633 establishes requirements to test mattress prototypes using a flaming ignition source (a pair of propane burners) that represents burning bedclothes. The standard requires manufacturers to maintain certain records to document compliance with the standard, including records concerning prototype testing, pooling, and confirmation testing, and quality assurance procedures and any associated testing for open-flame ignition sources.

Dated: March 12, 2014.
Todd A. Stevenson,
Secretary, Consumer Product Safety Commission.

[FR Doc. 2014-05761 Filed 3-14-14; 8:45 am]

BILLING CODE 6355-01-P